DEPARTMENT OF TRANSPORTATION

49 CFR Part 1

[Docket No. DOT-OST-1999-6189]

RIN 9991-AA52

Organization and Delegation of Powers and Duties; National Highway Traffic Safety Administrator

AGENCY: Office of the Secretary of Transportation, DOT.

ACTION: Final rule.

SUMMARY: This amendment delegates various authorities vested in the Secretary of Transportation (Secretary) by the Energy Independence and Security Act of 2007 (Act) (Pub. L. 110-140; December 19, 2007) to the National Highway Traffic Safety Administrator.

DATES: Effective Date: This final rule is effective on April 14, 2008.

FOR FURTHER INFORMATION CONTACT: Stan Feldman, Associate Chief Counsel, Office of Chief Counsel, National Highway Traffic Safety Administration, 1200 New Jersey Avenue, SE., West Building, W41-308, Washington, DC 20590, Telephone: (202) 366-1834.

SUPPLEMENTARY INFORMATION: On December 19, 2007, the Act was signed into law. Title 49 of the Code of Federal Regulations (CFR) 1.50 delegates to the Administrator of the National Highway Traffic Safety Administration (NHTSA) the authority to carry out various functions and activities related to the mission of the agency vested in or delegated to the Secretary. The Secretary has determined that certain authority vested in the Secretary under the Act concerning automobile fuel economy and other matters should be delegated to the National Highway Traffic Safety Administrator. This rulemaking adds paragraph (q) to § 1.50 to reflect these delegations.

Since this amendment relates to departmental management, organization, procedure, and practice, notice and comment are unnecessary under 5 U.S.C. 553(b). Further, since the amendment expedites the Department's ability to meet the statutory intent of the applicable laws and regulations covered by this delegation, the Secretary finds good cause under 5 U.S.C. 553(d)(3) for the final rule to be effective on the date of publication in the Federal Register.

Regulatory Analyses and Notices

A. Executive Order 12866 and DOT Regulatory Policies and Procedures

The final rule is not considered a significant regulatory action under Executive Order 12866 and DOT Regulatory Policies and Procedures (44 FR 11034). There are no costs associated with this rule.

B. Executive Order 13132

This final rule has been analyzed in accordance with the principles and criteria contained in Executive Order 13132 (“Federalism”). This final rule does not have a substantial direct effect on, or sufficient federalism implications for, the States, nor would it limit the policymaking discretion of the States. Therefore, the consultation requirements of Executive Order 13132 do not apply.

C. Executive Order 13175

This final rule has been analyzed in accordance with the principles and criteria contained in Executive Order 13175 (“Consultation and Coordination with Indian Tribal Governments”). Because this final rule does not significantly or uniquely affect the communities of the Indian tribal governments and does not impose substantial direct compliance costs, the funding and consultation requirements of Executive Order 13175 do not apply.

D. Regulatory Flexibility Act

Because no notice of proposed rulemaking is required for this rule under the Administrative Procedure Act, 5 U.S.C. 553, the provisions of the Regulatory Flexibility Act (5 U.S.C. 601 et seq.) do not apply. We also do not believe this rule would impose any costs on small entities because it simply delegates authority from one official to another. Therefore, I certify this final rule will not have a significant economic impact on a substantial number of small businesses.

E. Paperwork Reduction Act

This rule contains no information collection requirements under the Paperwork Reduction Act of 1995 (44 U.S.C. 3501-3520).

F. Unfunded Mandates Reform Act

The Department of Transportation has determined that the requirements of Title II of the Unfunded Mandates Reform Act of 1995 do not apply to this rulemaking.

List of Subjects in 49 CFR Part 1

Authority delegations (Government agencies), Organization and functions (Government agencies).

For the reasons set forth in the preamble, the Office of the Secretary of Transportation amends 49 CFR part 1 as follows:

PART 1—[AMENDED]

1. The authority citation for part 1 is revised to read as follows:

Authority: 49 U.S.C. 322; 28 U.S.C. 2672; 31 U.S.C. 3711(a)(2); Public Law 101-552, 104 Stat. 2736; Public Law 106-159, 113 Stat. 1748; Public Law 107-71, 115 Stat. 597; Public Law 107-295, 116 Stat. 2064; Public Law 107-295, 116 Stat. 2065; Public Law 107-296, 116 Stat. 2135; 41 U.S.C. 414; Public Law 108-426, 118 Stat. 2423; Public Law 109-59, 119 Stat. 1144; Public Law 110-140, 121 Stat. 1492.

2. In § 1.50, add paragraph (q) to read as follows:

§ 1.50 Delegations to National Highway Traffic Safety Administrator.

* * * * *

(q) Carry out the functions and exercise the authority vested in the Secretary under the “Energy Independence and Security Act of 2007” (Public Law 110-140; December 19, 2007), as it relates to:

(1) Section 106, Continued Applicability of Existing Standards;

(2) Section 107, National Academy of Sciences Studies;

(3) Section 108, National Academy of Sciences Study of Medium-Duty and Heavy-Duty Truck Fuel Economy;

(4) Section 110, Periodic Review of Accuracy of Fuel Economy Labeling;

(5) Section 113, Exemption from Separate Calculation Requirement;

(6) Section 131(b)(2) and (c)(1), Plug-in Electric Drive Vehicle Program;

(7) Section 225(a), Study of Optimization of Flexible Fueled Vehicles to Use E-85 Fuel;

(8) Section 227(a), Study of Optimization of Biogas Used in Natural Gas Vehicles;

(9) Section 242(a), Renewable Fuel Dispenser Requirements; and

(10) Section 248(a), Biofuels Distribution and Advanced Biofuels Infrastructure.

Issued on April 7, 2008.
Mary E. Peters,
Secretary of Transportation.

[FR Doc. E8-7885 Filed 4-11-08; 8:45 am]

BILLING CODE 4910-9X-P